DEPARTMENT OF THE INTERIOR

Fish and Wildlife Service

Availability of the Final Comprehensive Conservation Plan and Summary for Kern and Pixley National Wildlife Refuges, Kern and Tulare Counties, CA

AGENCY: Fish and Wildlife Service, Interior.

ACTION: Notice of availability.

SUMMARY: The U.S. Fish and Wildlife Service announces that the Kern and Pixley Refuges' Final Comprehensive Conservation Plan (CCP) and Summary are available for distribution. The CCP, prepared pursuant to the National Wildlife Refuge System Administration Act as amended, and in accordance with the National Environmental Policy Act of 1969, describes how the Service will manage the two Refuges for the next 15 years. The compatibility determinations for waterfowl hunting, wildlife observation and photography, environmental education and interpretation, research, grazing and mosquito control are also available with the CCP.

DATES: The Final CCP and Finding of No Significant Impact (FONSI) are available now. The FONSI was signed on September 30, 2004. Implementation of the CCP may begin immediately.

ADDRESSES: Copies of the Final CCP, FONSI, or Summary may be obtained by writing to the U.S. Fish and Wildlife Service, Attn: Mark Pelz, California/Nevada Refuge Planning Office, Room W-1916, 2800 Cottage Way, Sacramento, California, 95825. Copies of the CCP may be viewed at this address or at the Kern National Wildlife Refuge Complex Headquarters, 10811 Corcoran Road, Delano, California, 93216. The Final CCP is also available online for viewing and downloading at http://pacific.fws.gov/planning.

FOR FURTHER INFORMATION CONTACT: Mark Pelz, U.S. Fish and Wildlife Service, California/Nevada Refuge Planning Office, Room W-1916, 2800 Cottage Way, Sacramento, California, 95825; telephone 916-414-6500; fax 916-414-6512.

SUPPLEMENTARY INFORMATION:

Background

Kern National Wildlife Refuge is located in the southern portion of California's San Joaquin Valley, in Kern County. It was established in 1960, to provide wintering habitat for waterfowl and other migratory birds in the southern San Joaquin Valley. Kern Refuge consists of a 11,249-acre unit, owned by the Service. Kern Refuge's seasonal wetlands are an important wintering area for Pacific Flyway waterfowl and a popular destination for southern California hunters. The Refuge's grassland, alkali scrub, and riparian communities support four endangered species and several other special status species.

Pixley National Wildlife Refuge is located northeast of Kern Refuge in Tulare County. Pixley Refuge was set aside in 1959, to provide wintering habitat for migratory birds. Later, it was expanded to protect habitat for the endangered blunt-nosed leopard lizard and Tipton kangaroo rat. The Pixley Refuge acquisition boundary contains about 10,300 acres, of which, about 62 percent is owned by the Federal government. Pixley Refuge protects mostly grassland and smaller amounts of alkali playa, saltbush scrub, vernal pools, and riparian habitats. Pixley Refuge also has 756 acres of moist soil wetlands that are managed for wintering waterfowl, sandhill cranes, and other migratory birds.

The availability of the Draft CCP and Environmental Assessment (EA) for a 30-day public review and comment period was published in the Federal Register on Friday, June 25, 2004 in Volume 69, Number 122. The Draft CCP/EA identified and evaluated four alternatives for managing the Refuges for the next 15 years. Alternative A was the no-action alternative which described current Refuge management activities. Under Alternative B, improvements at Kern Refuge would have focused on improving habitat for migratory waterfowl and increasing waterfowl hunting opportunities. Changes at Pixley Refuge under Alternative B would have focused on improving and expanding the Refuge's existing threatened and endangered species management and environmental education and interpretation programs. Under Alternative C (the selected plan), Kern Refuge's focus will continue to emphasize providing wintering habitat for waterfowl and other migratory birds, and also contributing to the recovery of targeted special status species. Management programs for all wildlife-dependant public uses will improve and expand. Changes at Pixley Refuge under Alternative C will be similar to those under Alternative B with additional improvements in sandhill crane management. Under Alternative D, management of both Kern and Pixley Refuges would have changed to maximize native biodiversity. The Service would have substantially modified management of moist soil units at both Refuges to encourage native waterfowl food plants and improve habitat for shorebirds.

The Service received thirteen comment letters on the Draft CCP and EA. The comments received were incorporated into the CCP, when appropriate, and are responded to in an appendix to the CCP. Alternative C was selected for implementation and is the basis for the Final CCP.

With the management program described in the Final CCP, the Service will continue existing management of moist soil units at Kern and Pixley Refuges and seasonal marsh units at Kern Refuge. In addition, the Service will rehabilitate 1,330 acres of seasonal marsh units at Kern Refuge to improve habitat conditions and water management efficiency. One of the objectives of the CCP is eradicating 90 percent of the salt cedar on Kern Refuge within five years, using flooding and mechanical removal. To provide sanctuary for wintering birds and other wildlife, the existing flexible closed zone will be maintained. Pixley Refuge will remain closed to hunting. The Service will continue to maintain water through most of the summer in the eastern portion of unit 1 to provide nesting habitat for tricolor blackbirds, white-faced ibis, and other colonial nesting birds. In addition, a 272-acre grain unit will be developed on Pixley Refuge to provide forging habitat for sandhill cranes and geese.

Under the selected plan, the Service will continue to use cattle grazing on Kern and Pixley Refuge's upland habitats as a vegetation management tool to improve conditions for the endangered blunt-nosed leopard lizard and Tipton kangaroo rat. In addition, a grassland management plan will be developed that will explore various options for managing plant cover and improving habitat conditions for these two species. The Service will also pursue acquisition of the remaining natural lands within Pixley Refuge's approved boundary from willing sellers.

The Service will continue to maintain 215 acres of existing riparian habitat at Kern Refuge by periodically flooding it. In addition, the Service will plant and maintain 15 acres of new riparian habitat at Kern Refuge and 10 acres at Pixley Refuge. Herbicides will be used to treat salt cedar on Kern Refuge through foliar spray or cut stump application with a goal of removing 90 percent within 10 years. In addition, the Service will restore 400 acres of valley sink scrub on Kern Refuge.

Under the selected plan, hunting opportunities at Kern Refuge will be increased by opening an additional 540 acres to hunting, and constructing nine new hunting blinds. Other new visitor services projects at Kern Refuge include: developing new interpretive signs and displays, and a new refuge brochure; enhancing the pond at the refuge entrance and constructing a new kiosk and boardwalk; constructing a new 4.3-mile tour route (open every day); and constructing two new photo blinds. In addition, the environmental education program will be expanded and a visitor services plan will be developed. At Pixley Refuge, a new wildlife viewing area and interpretive displays will be constructed on the Turkey Tract adjacent to State Highway 43. Full implementation of the selected plan will be subject to available funding and staffing.

Dated: February 11, 2005.
Steve Thompson,
Manager, California/Nevada Operations Office, Fish and Wildlife Service, Sacramento, California.

[FR Doc. 05-3073 Filed 2-16-05; 8:45 am]

BILLING CODE 4310-55-P